DEPARTMENT OF TRANSPORTATION

Federal Aviation Administration

14 CFR Part 71

[Docket No. FAA-2020-0350; Airspace Docket No. 18-AAL-2]

RIN 2120-AA66

Amendment of Class E Airspace; Kotzebue, AK

AGENCY: Federal Aviation Administration (FAA), DOT.

ACTION: Final rule.

SUMMARY: This action modifies Class E airspace, designated as a surface area, at Ralph Wein Memorial Airport. This action also modifies the Class E airspace extending upward from 700 feet above the surface. Additionally, this action modifies the Class E airspace extending upward from 1,200 feet above the surface. Further, this action removes the Kotzebue VOR/DME from the airspace legal descriptions. Lastly, this action implements several administrative corrections to the airspace legal descriptions.

DATES: Effective 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Ralph Wein Memorial Airport, Kotzebue, AK, to ensure the safety and management of Instrument Flight Rules (IFR) operations at the airport.

History

The FAA published a notice of proposed rulemaking in the Federal Register (85 FR 27178; May 7, 2020) for Docket No. FAA-2020-0350 to amend Class E airspace at Ralph Wein Memorial Airport, Kotzebue, AK. Interested parties were invited to participate in this rulemaking effort by submitting written comments on the proposal to the FAA. One comment was received, the comment was not germane to the proposed airspace modification.

During the NPRM comment period, the FAA determined that a small portion of the Class E airspace extending upward from 700 feet above the surface extends beyond 12 miles from the coast. The Final Rule includes exclusionary language to keep the airspace within 12 miles of the coast.

Class E2 and E5 airspace designations are published in paragraphs 6002 and 6005, respectively, of FAA Order 7400.11D, dated August 8, 2019, and effective September 15, 2019, which is incorporated by reference in 14 CFR 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 modifies Class E airspace, designated as a surface area, at Ralph Wein Memorial Airport, Kotzebue, AK. This area is described as follows: That airspace extending upward from the surface within a 4.3-mile radius of the Ralph Wien Memorial Airport.

This action also modifies Class E airspace, extending upward from 700 feet above the surface. This area is described as follows: That airspace extending upward from 700 feet above the surface within a 6.8-mile radius of the airport, and within 8 miles north and 4 miles south of the 088° bearing from the airport, extending from 1.4 miles east of the airport to 17.4 miles east of the airport, and within 4 miles north and 8 miles south of a 276° bearing from the airport, extending from the airport to 14.7 miles west of Ralph Wein Memorial Airport, excluding that airspace beyond 12 miles from the coast.

Additionally, this action modifies Class E airspace extending upward from 1,200 feet above the surface. The area is described as follows: That airspace extending upward from 1,200 feet above the surface within a 45-mile radius of the Ralph Wien Memorial Airport, excluding that airspace beyond 12 miles from the coast.

Further, this action removes the Kotzebue VOR/DME Navigational Aid from the airspace legal descriptions. The Navigational Aid is not required to define the airspace and by removing it from the legal description, the airspace can be described from a single reference point.

Lastly, this action implements several administrative corrections to the airspace legal descriptions. The airport name on the second line of the text header is updated to Ralph Wien Memorial Airport, AK. The airport's geographic coordinates are updated to lat. 66°53′05″ N, long. 162°35′53″ W. The following two sentences are removed from the Class E surface area description “This Class E airspace area is effective during specific dates and times established in advance by a Notice to Airmen. The effective date and time will thereafter be continuously published in the Airport/Facility Directory.”

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as Surface Areas.

* * * * *

AAL AK E2 Kotzebue, AK [Amended]

Ralph Wien Memorial Airport, AK

(Lat. 66°53′05″ N, long. 162°35′53″ W)

That airspace extending upward from the surface within a 4.3-mile radius of the Ralph Wien Memorial Airport.

Paragraph 6005 Class E Airspace Areas Extending Upward From 700 Feet or More Above the Surface of the Earth.

* * * * *

AAL AK E5 Kotzebue, AK [Amended]

Ralph Wien Memorial Airport, AK

(Lat. 66°53′05″ N, long. 162°35′53″ W)

That airspace extending upward from 700 feet above the surface within a 6.8-mile radius of the airport, and within 8 miles north and 4 miles south of the 088° bearing from the airport, extending from 1.4 miles east of the airport to 17.4 miles east of the airport, and within 4 miles north and 8 miles south of a 276° bearing from the airport, extending from the airport to 14.7 miles west of the airport, excluding that airspace extending beyond 12 miles from the coast; and that airspace extending upward from 1,200 feet above the surface within a 45-mile radius of the Ralph Wien Memorial Airport, excluding that airspace extending beyond 12 miles from the coast.

Issued in Seattle, Washington, on July 17, 2020.
B.G. Chew,
Acting Group Manager, Western Service Center, Operations Support Group.

[FR Doc. 2020-15930 Filed 7-22-20; 8:45 am]

BILLING CODE 4910-13-P